DEPARTMENT OF THE INTERIOR

National Park Service

[NPS-WASO-NAGPRA-NPS0038100; PPWOCRADN0-PCU00RP14.R50000]

Notice of Intended Repatriation: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology (PMAE) intends to repatriate certain cultural items that meet the definition of unassociated funerary objects and that have a cultural affiliation with the Indian Tribes or Native Hawaiian organizations in this notice.

DATES: Repatriation of the cultural items in this notice may occur on or after July 17, 2024.

ADDRESSES: Patricia Capone, Peabody Museum of Archaeology and Ethnology, Harvard University, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the PMAE, and additional information on the determinations in this notice, including the results of consultation, can be found in the summary or related records. The National Park Service is not responsible for the determinations in this notice.

Abstract of Information Available

A total of 15 cultural items have been requested for repatriation.

The one lot of unassociated funerary objects includes ceramic sherds, ceramic pipe fragments, ceramic effigy pipe fragments, bone tools, faunal remains, botanical remains, stone pipe fragments, lithics, flakes, charcoal, charred wood, ground stone tools, net sinkers, worked stones, unworked stones, shell, and worked faunal remains. In 1906, Mark Raymond Harrington and Irwin Hayden removed these items from the Durfee Farm site in Jefferson County, NY, as part of a Peabody Museum Expedition.

The one lot of unassociated funerary objects includes ceramic sherds, a ceramic pipe fragment, ground stone tools, a rubbing stone, and a possibly culturally modified rock. In 1906, P.W. Kilmer removed these items from the Durfee Farm site in Jefferson County, NY, and donated them to the PMAE the same year.

The one lot of unassociated funerary objects includes ceramic sherds. In October 1990, William Engelbrecht removed these items from the Durfee Farm site in Jefferson County, NY, and donated them to the PMAE in November 1992.

The one lot of unassociated funerary objects includes ceramic sherds, ceramic pipe fragments, ceramic discs, stone discs, faunal remains, worked faunal remains, bone tools, charred corn cobs, flakes, lithics, ground stone tools, shells, charcoal, stone fragments, perforated stone, ochre, mica, bark fragments, ash, and unworked stones. In 1906, Mark Raymond Harrington and Irwin Hayden removed these items from the Heath Farm site in Jefferson County, NY, as part of a Peabody Museum Expedition.

The one lot of unassociated funerary objects includes ceramic sherds, ceramic pipe fragments, ground stone tools, and a slate projectile point. In 1906, H.J. Heath removed these items from the vicinity of the Heath Farm site in Jefferson County, NY, and donated them to the PMAE the same year.

The one unassociated funerary object is a celt removed by H.J. Heath from the vicinity of the Heath Farm site in Jefferson County, NY, in 1906. Dr. William H. Getman acquired the cultural item from Heath and donated it to the PMAE in 1906.

The one lot of unassociated funerary objects includes ceramic sherds. In October 1990, William Engelbrecht removed these items from the Heath Farm site in Jefferson County, NY, and donated them to the PMAE in November 1992.

The one lot of unassociated funerary objects includes ceramic sherds, a ceramic pipe fragment, flint chips, and shell. In 1906, Mark Raymond Harrington and Irwin Hayden removed these items from the Green Farm site in Jefferson County, NY, as part of a Peabody Museum Expedition.

The one lot of unassociated funerary objects includes ceramic sherds and pipe fragments, faunal remains, and shell. In 1906, Mark Raymond Harrington and Irwin Hayden removed these items from the Perch River Bay site in Jefferson County, NY, as part of a Peabody Museum Expedition.

The one lot of unassociated funerary objects includes ceramic sherds and a ceramic pipe fragment. In 1906, Dr. William H. Getman removed these items from the Perch River Bay site in Jefferson County, NY, and donated them to the PMAE the same year.

The one lot of unassociated funerary objects includes ceramic sherds, flint chips, stone tools, a bone perforator, a possibly worked stone, charred corn, and faunal remains. In 1906, Mark Raymond Harrington and Irwin Hayden removed these items from the Talcott Farm site in Jefferson County, NY, as part of a Peabody Museum Expedition.

The one lot of unassociated funerary objects includes ceramic sherds, stone and ceramic pipe fragments, stone tool fragments, a bone perforator, and worked and unworked faunal remains. In 1906, Mark Raymond Harrington and Irwin Hayden removed these items from the St. Lawrence site in Jefferson County, NY, as part of a Peabody Museum Expedition.

The one lot of unassociated funerary objects includes ceramic sherds. In 1906, Dr. William H. Getman removed these items from the St. Lawrence site in Jefferson County, NY, and donated them to the PMAE the same year.

The one lot of unassociated funerary objects includes ceramic sherds, a slate projectile point, and a stone disc. In 1906, Dr. William H. Getman removed these items from a site along the shore of Chaumont Bay in Jefferson County, NY, and donated them to the PMAE the same year.

The one lot of unassociated funerary objects includes ceramic sherds, stone tools and flakes, and faunal remains. In 1906, Mark Raymond Harrington and Irwin Hayden removed these items from the Nohlee Farm site in Jefferson County, NY, as part of a Peabody Museum Expedition.

Determinations

The PMAE has determined that:

• The 15 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Onondaga Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 17, 2024. If competing requests for repatriation are received, the PMAE must determine the most appropriate requestor prior to repatriation. Requests for joint repatriation of the cultural items are considered a single request and not competing requests. The PMAE is responsible for sending a copy of this notice to the Indian Tribes and Native Hawaiian organizations identified in this notice and to any other consulting parties.

Authority: Native American Graves Protection and Repatriation Act, 25 U.S.C. 3004 and the implementing regulations, 43 CFR 10.9.

Dated: June 7, 2024.
Melanie O'Brien,
Manager, National NAGPRA Program.

[FR Doc. 2024-13245 Filed 6-14-24; 8:45 am]

BILLING CODE 4312-52-P